UNIFORMED SERVICES UNIVERSITY OF THE HEALTH SCIENCES

Sunshine Act Meeting

AGENCY HOLDING THE MEETING: Uniformed Services University of the Health Sciences.

TIME AND DATE: 1 p.m. to 5 p.m., October 24, 2002.

PLACE: United States Military Academy, West Point, NY 10996.

STATUS: Open—under “Government in the Sunshine Act” (5 U.S.C. 552b(e)(3)).

MATTERS TO BE CONSIDERED:

12 p.m. Meeting—Board of Regents

(1) Approval of Minutes—August 13, 2002

(2) Faculty Matters

(3) Departmental Reports

(4) Financial Report

(5) Report—President, USUHS

(6) Report—Dean, School of Medicine

(7) Report—Dean, Graduate School of Nursing

(8) Comments—Chairman, Board of Regents

(9) New Business

CONTACT PERSON FOR MORE INFORMATION: Mr. Bobby D. Anderson, Executive Secretary, Board of Regents, (301) 295-3116.

Dated: September 30, 2002.
Patricia L. Toppings,
Alternate OSD Federal Register Liaison Officer, Department of Defense.

[FR Doc. 02-25355 Filed 10-1-02; 4:00 pm]

BILLING CODE 5001-08-M